DEPARTMENT OF DEFENSE

Office of the Secretary

Meeting of the Defense Department Advisory Committee on Women in the Services (DACOWITS)

AGENCY: Department of Defense.

ACTION: Notice.

SUMMARY: Pursuant to Section 10(a), Public Law 92-463, as amended, notice is hereby given of a forthcoming meeting of the Defense Department Advisory Committee on Women in the Services (DACOWITS). The purpose of the Committee meeting is to provide further briefings on various topics to Committee members. The meeting is open to the public, subject to the availability of space.

DATES: 8-9 May 2003.

ADDRESSES: Double Tree Hotel, 300 Army Navy Drive, Arlington, VA 22202.

FOR FURTHER INFORMATION CONTACT: Lieutenant Commander Shannon Thaeler, USN DACOWITS, 4000 Defense Pentagon, Room 3D769, Washington, DC 20301-4000. Telephone (703) 679-2122.

SUPPLEMENTARY INFORMATION: Interested persons may submit a written statement of consideration by the Committee and make an oral presentation of such. Persons desiring to make an oral presentation or submit a written statement to the Committee must notify the point of contact listed above no later than noon, May 9, 2003, from 4:45 p.m. to 5 p.m. before the full Committee. Presentations will be limited to two minutes. Number of oral presentations to be made will depend on the number of requests received from members of the public. Each person desiring to make an oral presentation must provide the point of contact listed above with one (1) copy of the presentation by noon, May 2, 2003 and bring 50 copies of any material that is intended for distribution at the meeting. Persons submitting a written statement only must submit one (1) copy of the statement to the DACOWITS staff by the close of the meeting on May 9, 2003.

Meeting Agenda

Thursday, May 8, 2003

Welcome Administrative Remarks

Women's Work Issues Panel

Dr. Bonnie Moore/RADM (Sel) Deborah Lower

Break

Work/Family Conflict Issues for Soldier and Families

TriCare 101

Lunch (by invitation only)

Special Guests: Service Senior Enlisted Advisors

Air Force Quality of Life Programs

National Guard Quality of Life Programs

Marine Corps Quality of Life Programs

Break

Mr. Abell, PDUSD (P&R)

Dr. Wolfowiz, Deputy Secretary of Defense

Friday, May 9, 2003

Reserve Panel: Comprehensive Review of the Guard and Reserve

Break

Best Practices, Civilian OB/GYN Hospital and Clinics

DOD Women's Health Research Program: LTC Karl Friedl

Lunch

Navy Family Summit: RADM (Sel) Marc Purcell

Caliber Associates Current Research Review Briefing

Committee Time

Public Forum

Dated: April 10, 2003.
Patricia L. Toppings,
Alternate OSD Federal Register Liaison Officer, Department of Defense.

[FR Doc. 03-9453 Filed 4-16-03; 8:45 am]

BILLING CODE 5001-08-M